DEPARTMENT OF STATE

[Publice Notice No. 3435]

Shipping Coordinating Committee, Subcommittee on Ship Design and Equipment; Meeting Notice

The Shipping Coordinating Committee will conduct an open meeting at 9:30 am on Thursday, November 16, 2000, in Room 6319, at U.S. Coast Guard Headquarters, 2100 2nd Street, SW., Washington, DC 20593-0001. The purpose of the meeting is to prepare for the forty-fourth session of the Subcommittee on Ship Design and Equipment of the International Maritime Organization (IMO) which is scheduled for March 5-9, 2001, at IMO Headquarters in London, England.

Among other things, items of particular interest are: revision of resolutions MEPC.60(33) and A.586(14) regarding pollution prevention equipment; asbestos-related problems on board ships; casualty analysis; development of guidelines for ships operating in ice-covered waters; low-powered radio homing devices for liferafts on ro-ro passenger ships; use of desalinators on liferafts and lifeboats; improved thermal protection; amendments to resolution A.744(18) regarding guidelines on the enhanced program of inspections during surveys of bulk carriers and oil tankers; revision of the Interim Standards for ship maneuverability; and guidelines under Annex VI of the International Convention for the Prevention of Pollution from Ships (MARPOL).

IMO works to develop international agreements, guidelines, and standards for the marine industry. In most cases, these form the basis for class society rules and national standards/regulations. Such an open meeting supports the U.S. Representative to the IMO Subcommittee in developing the U.S. position on those issues raised at the IMO Subcommittee meetings. This open meeting serves as an excellent forum for the public to express their ideas and participate in the international rulemaking process. All members of the public are encouraged to attend or send representatives to participate in the development of U.S. positions on those issues affecting your maritime industry and remain abreast of all activities ongoing within the IMO.

Members of the public may attend this meeting up to the seating capacity of the room. Interested persons may seek information by writing: Mr. Wayne Lundy, U.S. Coast Guard Headquarters, Commandant (G-MSE-3), 2100 2nd Street, SW., Washington, DC 20593-0001 or by calling: (202) 267-2206.

Dated: October 10, 2000.
Stephen Miller,
Executive Secretary, Shipping Coordinating Committee.

[FR Doc. 00-26495 Filed 10-13-00; 8:45 am]

BILLING CODE 4710-07-U